DEPARTMENT OF THE TREASURY

Internal Revenue Service

26 CFR Part 1

[REG-105474-18]

RIN 1545-BO59, 1545-BM69

Guidance on Passive Foreign Investment Companies; Hearing Cancellation

AGENCY: Internal Revenue Service (IRS), Treasury.

ACTION: Cancellation of notice of public hearing on proposed rulemaking.

SUMMARY: This document cancels a public hearing on proposed regulations under sections 1291, 1297, and 1298 of the Internal Revenue Code (“Code”) regarding the determination of ownership in a passive foreign investment company within the meaning of section 1297(a) (“PFIC”) and the treatment of certain income received or accrued by a foreign corporation and assets held by a foreign corporation for purposes of section 1297.

DATES: The public hearing, originally scheduled for December 9, 2019 at 10:00 a.m. is cancelled.

ADDRESSES: The cancelled hearing was originally scheduled to be held at the Internal Revenue Service Building, 1111 Constitution Avenue NW, Washington, DC 20224.

FOR FURTHER INFORMATION CONTACT: Regina Johnson, Publications and Regulations Specialist at (202) 317-6901 (not a toll-free number).

SUPPLEMENTARY INFORMATION: A notice of public hearing that appeared in the Federal Register on Thursday, October 3, 2019 (84 FR 52835) announced that a public hearing was scheduled December 9, 2019 at 10:00 a.m. in the IRS Auditorium, Internal Revenue Service Building, 1111 Constitution Avenue NW, Washington, DC. The subject of the public hearing is under sections 1291, 1297, and 1298 of the Internal Revenue Code.

The public comment period for these regulations expired on September 9, 2019. The notice of hearing instructed those interested in testifying at the public hearing to submit an outline of the topics to be discussed. The outline of topics to be discussed was due by November 22, 2019. As of November 22, 2019, no one has requested to speak. Therefore, the public hearing scheduled for December 9, 2019 at 10:00 a.m. is cancelled.

Martin V. Franks,
Branch Chief, Publications and Regulations Branch, Legal Processing Division, Associate Chief Counsel.

[FR Doc. 2019-25955 Filed 11-29-19; 8:45 am]

BILLING CODE 4830-01-P